DEPARTMENT OF TRANSPORTATION

Federal Aviation Administration

Supplemental Type Certificate SA893CE (Original Product Type Certificate Number A4CE)

AGENCY: Federal Aviation Administration (FAA), DOT.

ACTION: Request for information on holder of supplemental type certificate (STC) prior to FAA declaring STC abandoned.

SUMMARY: This notice requests the current holder(s) (or their heirs) of STC SA893CE come forward and identify themselves; otherwise, the FAA will declare the STC as abandoned. This notice is issued in accordance with § 302 of the FAA Modernization and Reform Act of 2012,¹ partially codified as Title 49 of the United States Code (49 U.S.C.) § 44704(a)(5).

¹ Public Law 112-95.

DATES: We must receive all correspondence by April 24, 2017.

FOR FURTHER INFORMATION CONTACT: Send all correspondence on this issue via certified mail to: Federal Aviation Administration, Chicago Aircraft Certification Office, 2300 East Devon Avenue, Room 107, Des Plaines, IL 60018. ATTN: JoWanna Jenkins, ACE-116C1. All letters must be signed. You may also contact Ms. Jenkins by phone at (847) 294-7145 or electronically at jowanna.jenkins@faa.gov.

SUPPLEMENTARY INFORMATION:

Background

The FAA has received a third party request for the release of data for STC SA893CE under the provisions the Freedom of Information Act (FOIA), 5 U.S.C. 552. The FAA cannot release the requested data under FOIA without the permission of the STC holder. The STC holder last listed on the certificate record is Mr. Wayne B. Millard in Minneapolis, MN. The FAA has been unsuccessful in contacting Mr. Millard by telephone, email, and/or certified mail. There has been no activity with this STC holder for more than 3 years.

Information Requested

If you are the owner, or heir, or a transferee of STC SA893CE, or have any knowledge regarding who may now hold STC SA893CE, please contact JoWanna Jenkins using a method described in the CONTACT INFORMATION of this notice. If you are the owner of STC SA893CE, you must provide a notarized copy of your Government issued identification (ID) with a letter and background establishing your ownership of the STC and/or relationship as the heir to the deceased holder of the STC (if that is the case).

Conclusion

If we do not receive any response by April 24, 2017, we will consider STC SA893CE abandoned and we will proceed with the release of the requested data.

Robert Busto,
Acting Manager, Small Airplane Directorate, Aircraft Certification Service.

[FR Doc. 2016-25688 Filed 10-24-16; 8:45 am]

BILLING CODE 4910-13-P